DEPARTMENT OF THE INTERIOR

Fish and Wildlife Service

[FWS-HQ-IA-2015-N077; FXIA16710900000-145-FF09A30000]

Notice of Continued Suspension of Imports of Zimbabwe Elephant Trophies Taken On or After April 4, 2014

AGENCY: Fish and Wildlife Service, Interior.

ACTION: Notice.

SUMMARY: On March 26, 2015, the U.S. Fish and Wildlife Service (Service) made a determination that the suspension on the import of sport-hunted African elephant trophies taken in Zimbabwe on or after April 4, 2014, would be continued until further notice. The decision to continue the suspension on importation of African elephant trophies taken in Zimbabwe through the 2015 hunting season and future hunting seasons is due to the Service's inability to determine that the killing of the animal whose trophy is intended for import into the United States would enhance the survival of the species in the wild. The suspension on importation of trophies taken during calendar year 2015 or future hunting seasons could be lifted if additional information on the status and management of elephants in Zimbabwe becomes available which satisfies the conditions of the 4(d) special rule under the Endangered Species Act (Act).

ADDRESSES: Timothy J. Van Norman, Chief, Branch of Permits, Division of Management Authority, U.S. Fish and Wildlife Service, MS: IA, 5275 Leesburg Pike, Falls Church, VA 22041-3803; fax (703) 358-2280; or email DMAFR@fws.gov.

FOR FURTHER INFORMATION CONTACT: Timothy J. Van Norman, (703) 358-2104 (telephone); (703) 358-2280 (fax); or DMAFR@fws.gov (email).

SUPPLEMENTARY INFORMATION: The African elephant (Loxodonta africana) is listed as threatened under the Endangered Species Act (Act), 16 U.S.C. 1531 et seq., and is regulated under a special rule found at 50 CFR 17.40(e). The special rule includes specific requirements for the import of sport-hunted trophies. Under paragraph 17.40(e)(3)(iii)(C), in order for the Service to authorize the import of a sport-hunted elephant trophy, the Service must find that the killing of the animal whose trophy is intended for import would enhance the survival of the species in the wild (an “enhancement finding”).

Zimbabwe has had an active elephant hunting program for over 20 years, and imports into the United States have occurred at least since 1997, when the Zimbabwe elephant population, along with populations in Botswana and Namibia, was downlisted to Appendix II of the Convention on International Trade in Endangered Species of Wild Fauna and Flora (CITES) (South Africa's population was downlisted at a later date). When the population was downlisted, the Service published a notice in the Federal Register regarding the downlisting that acknowledged that, because elephants in Zimbabwe were an Appendix-II population, no U.S. import permit would be required to import trophies, but we did state that, in accordance with the special rule under the Act, the requirement for an enhancement finding would continue to apply (62 FR 44627; August 22, 1997). In that notice, we stated that, in making the required enhancement finding for the import of sport-hunted trophies, the Service would review the status of the elephant population and the total management program for elephants in each country to ensure that the program was promoting the conservation of the species.

On April 4, 2014, the Service announced an interim suspension of imports of sport-hunted elephant trophies taken in Zimbabwe during the 2014 season. This finding was revised on April 17, 2014, primarily to clarify that the suspension applied only to elephants hunted on or after April 4, 2014. This determination was announced in the Federal Register on May 12, 2014 (79 FR 26986). The decision to establish an interim suspension of imports of elephant trophies from Zimbabwe was due to the Service having insufficient information on the status of elephants in Zimbabwe and on Zimbabwe's current elephant management program to make an enhancement finding. On July 17, 2014, the Service found that the import of elephant trophies taken in Zimbabwe in 2014 on or after April 4, 2014, would be suspended; this finding was revised on July 22 to make non-substantive corrections. This determination was announced in the Federal Register on July 31, 2014 (79 FR 44459). The decision to uphold the suspension on July 17, 2014, was due to the Service being unable to make an enhancement finding even after receiving additional materials from Zimbabwe's Parks and Wildlife Management Authority (ZPWMA) and others. The Service decided on March 26, 2015, to continue the July 2014 suspension until such time as the Service can determine that the importation of sport-hunted elephant trophies from Zimbabwe meet the criteria under the regulations at 50 CFR 17.40(e)(3)(iii)(C). The Service's March 26, 2015, decision was again due to the Service being unable to make an enhancement finding even after receiving additional materials from Zimbabwe's Parks and Wildlife Management Authority (ZPWMA) and others.

Prior to April 4, 2014, the Service had limited information regarding the elephant population in Zimbabwe, its management, and how U.S. hunters were contributing to the enhancement of the species within Zimbabwe. Due to this limited information, the Service determined that it did not have sufficient information to make the required determination under paragraph 17.40(e)(3)(iii)(C), and therefore announced an interim suspension on April 4, 2015 (revised on April 17), until such time as sufficient information was obtained that would allow the Service to make the required finding. On April 4, 2014, the Service also sent a letter to Zimbabwe requesting information regarding the status of elephants in Zimbabwe and the hunting program. On April 17, 2014, the Director-General of ZPWMA sent a response to the Service inquiry. Several weeks later, the Service received a number of documents, copies of Zimbabwean laws, and other supporting documentation that was referenced in the ZPWMA response. In addition, since that time, the Service has received additional supporting information from individuals and associations connected to the hunting industry in Zimbabwe or southern Africa and U.S.-based conservation and hunting nongovernmental organizations (NGOs). The Service also delivered a second letter, dated October 31, 2014, to ZPWMA while attending the 13th Annual African Wildlife Consultative Forum in Ethiopia. This letter requested clarification of information submitted to the Service, and also requested additional information to address questions that were raised from our review of available information. The Service received a response to this inquiry on December 10, 2014.

Based on the information provided, Zimbabwe's current national elephant management plan consists primarily of two documents: The Policy and Plan for Elephant Management in Zimbabwe (1997) and Elephant Management in Zimbabwe, third edition (July 1996). Although the documents provide a well-developed list of goals and objectives, there is no information in these documents on how to achieve or fulfill these goals and objectives, nor do there appear to be any subsequent updates of the documents or reports that provide any indication of progress on fulfilling these management goals and objectives. Without management plans with specific goals and actions that are measurable and reports on the progress of meeting these goals, the Service cannot determine if ZPWMA is implementing the general goals and objectives that appear in Elephant Management in Zimbabwe and The Policy and Plan for Elephant Management in Zimbabwe. In December 2014, a workshop, hosted by ZPWMA, was held at the Hwange Safari Lodge, Zimbabwe, to discuss revisions to the management plans, particularly to establish clearer goals and measurable outcomes. It appears that the participants of the workshop agreed on a framework for a revised management plan that maintained the original 1997 long-term vision and the three target goals (i.e., maintain at least four demographically and genetically viable populations; maintain or increase elephant range; maintain numbers/densities of elephants at levels that do not adversely impact biodiversity conservation goals while contributing to economically viable and sustainable wildlife-based land uses). The participants also began work on identifying strategic objectives and outputs, as well as recognizing some key activities, and starting to identify key performance indicators. Additional work is required to finalize the revised management plan. Once this work is completed, the Service will have an opportunity to evaluate the revised plan to determine if, in conjunction with other management actions, the criteria under 50 CFR 17.40(e)(3)(iii)(C) have been met. However, based on the information available to the Service, there is not currently any information indicating that Zimbabwe is implementing, on a national scale, appropriate management measures for its elephant populations.

One concern expressed in the April 2014 and July 2014 findings was whether management of elephants in Zimbabwe was based on accurate population estimates. According to the IUCN SSC African Elephant Database report 2013 Africa, the elephant population in Zimbabwe in 2007 was estimated to be 99,107, and in 2012, it was estimated at 100,291. However, these estimates were primarily based on older surveys, some of which dated back to 2001. In 2014, a nationwide survey was conducted in Zimbabwe as part of the Pan African Elephant Aerial Survey. Preliminary results from the survey indicate that the overall estimated population of elephants in Zimbabwe was 82,000 to 83,000, approximately 20 percent lower than the 2012 estimate. There was an increase in two of the subpopulations within Zimbabwe (North West Matabeleland Region—2001 estimate of 49,312 elephants, and 2014 estimate of 53,949; Gonarezhou National Park—2013 estimate of 10,151 elephants, and 2014 estimate of 10,722), but a decline in the other two subpopulations (Mid Zambezi Valley—2014 estimate of 12,211 elephants, down from 19,297 in 2001; Sebungwe Region—2014 estimate of 3,634, compared to 13,988 in 2001). With the recent survey, ZPWMA should have more accurate population estimates for each subpopulation to establish appropriate off-take levels to maintain a healthy population of elephants.

According to information provided to the Service, Zimbabwe has a methodology, including participation from a number of stakeholders, for establishing annual hunting quotas for all areas of the country. However, while the described methodology appears to be based on sound wildlife management principles, the Service continues to have fundamental questions regarding how quotas are specifically established and how overall off-take, such as poaching and problem animal control, were taken into account, or to what degree biological factors are taken into consideration (as opposed to economic and societal considerations). The current quota setting process utilized by ZPWMA may take into consideration the issues raised in the Service's finding; however, without documentation of the system providing an explanation of the system used and describing the calculations, the Service cannot determine if sport-hunting quotas are reasonable or beneficial to elephant populations and, therefore, whether sport-hunting is enhancing the survival of the species.

The Zimbabwean Parks and Wild Life Act has established the regulatory mechanism for the ZPWMA and its programs, and also provides for substantial penalties for the unlawful possession of or trading in ivory. In addition, the General Laws Amendment Act (No. 5) of 2010 provides for mandatory imprisonment of not less than 9 years for poaching. If properly enforced, it appears these penalties would be a sufficient deterrent for poachers. However, based on the information available to the Service, we do not have a good understanding of the ZPWMA's annual operational budget, how much money is generated by elephant hunting, or how these funding levels impact the ability of ZPWMA to adequately implement the Parks and Wild Life Act or to carry out day-to-day management activities or anti-poaching efforts. In January 1996, the Government of Zimbabwe approved the establishment of the Parks and Wild Life Conservation Fund, a statutory fund responsible for financing operations directly from wildlife revenues. However, revenues generated through sport-hunting conducted on State and private lands are primarily used to finance ZPWMA, and only limited additional funding is available from appropriated funds from the Zimbabwe government or outside funding from NGOs. While the Service did receive additional information from ZPWMA and other sources on the revenue generated through hunting (in general) and other sources (in general), we still lack sufficient information on revenue generated through elephant hunting, particularly from U.S. hunters. It is possible that additional documentation could be provided to substantiate claims that revenue from U.S. hunters generated through elephant hunting provides a significant benefit to elephants in the wild, but until such time, we are unable to determine if these claims are accurate.

In 1989, Zimbabwe established the Communal Areas Management Programme for Indigenous Resources (CAMPFIRE) to encourage reduction in human-elephant conflicts through conservation-based community development and to provide an economic incentive to improve community tolerance of wildlife, including elephants. In the past, the CAMPFIRE program has been the model for community-based conservation efforts in several other African countries and was identified as an innovative program. Under a community-based conservation program, like CAMPFIRE, rural communities should benefit from revenue generated by sport-hunting. With increased human-elephant conflicts on Communal lands, sport-hunting may be an important tool that gives these communities a stake in sustainable management of the elephant as a natural and economic resource and provides the enhancement that would meet the U.S. criteria for authorizing imports of trophies. Much of the information provided to the Service over the past year focused on the benefits U.S. hunters provided to CAMPFIRE activities and community-based wildlife management. However, the information did not provide a clear connection between hunting revenues coming from U.S. hunters (e.g., how much is generated for communities), and indicated that over time, the management of wildlife and benefits provided through CAMPFIRE may have declined. It appears that these concerns were expressed during the November 2014 CAMPFIRE Stakeholder's Workshop held in Zimbabwe. The discussions and recommendations touched on the effectiveness of the CAMPFIRE concept and its relationship to tourist hunting. Participants at the workshop appeared to have made a good start at addressing issues raised by representatives of Rural Development Councils (RDCs), as well as the need for CAMPFIRE to face challenges with limited resources and capacity. It was recognized that there needed to be strong involvement with ZPWMA and safari operators since CAMPFIRE is in areas where there have been both elephant population declines and increased poaching. While the Service's concerns expressed in our earlier findings regarding community-based wildlife management have not been sufficiently addressed in the information provided to the Service to date, there does appear to be movement in better defining the role that CAMPFIRE and community-based wildlife management can play in elephant management, particularly in association with U.S. hunters.

As was stated in the July 2014 and March 26, 2015, findings, there are clearly “bright spots” of elephant conservation efforts being carried out by non-governmental entities and individuals in Zimbabwe that are providing a benefit to elephants. Individual safari outfitters and landowners have established their own management efforts, including anti-poaching activities, on areas under their control, either through ownership of the land or leases. These entities have made significant strides to ensure the long-term survival of elephants on their lands. These efforts, however, have been adversely affected by unilateral or seemingly arbitrary actions taken by the central government or RDC, such as land redistribution activities, which minimize conservation efforts, and reduced lease durations. These “bright spots” are not numerous enough, in and of themselves, to overcome the problems currently facing Zimbabwe elephant populations or to support a finding that sport hunting throughout Zimbabwe would enhance the survival of the species. While additional information was provided since the July findings, much of this information only expanded on areas already identified in previous submissions. It should be noted, however, that two workshops involving multiple safari outfitters and leaseholders are scheduled for the beginning of 2015 to identify and address outstanding issues faced by the safari outfitters. It is the hope of the Service that these workshops are successful and can act as a springboard for similar workshops throughout Zimbabwe.

Therefore, based on the information currently available to the Service on government efforts to manage elephant populations, efforts to address human-elephant conflicts and poaching, and the state of the hunting program within the country, and without current data on population numbers and trends being incorporated into a national management strategy or plan, the Service is unable to make a finding that sport-hunting in Zimbabwe is enhancing the survival of the species and that imports of trophies would meet the criteria established under the Act for African elephants. The March 26, 2015, enhancement finding has been posted at http://www.fws.gov/international/pdf/enhancement-finding-March-2015-elephant-Zimbabwe.pdf. In addition, the press release announcing the suspension and frequently asked questions is available on the Service's Web page (www.fws.gov/international).

This suspension does not prohibit U.S. hunters from traveling to Zimbabwe and participating in an elephant hunt. The Act does not prohibit take (e.g., hunting) outside the United States; it only prohibits import of trophies taken during such hunts without authorization under the Act.

Dated: July 2, 2015.
Timothy J. Van Norman,
Chief, Branch of Permits, Division of Management Authority, U.S. Fish and Wildlife Service.

[FR Doc. 2015-17537 Filed 7-16-15; 8:45 am]

BILLING CODE 4310-55-P